DEPARTMENT OF TRANSPORTATION

Federal Aviation Administration

Notice of Funding Opportunity for Environmental Mitigation Pilot Program

AGENCY: Federal Aviation Administration, DOT.

ACTION: Notice of funding opportunity.

SUMMARY: Section 190 of the FAA Reauthorization Act of 2018 authorizes the Federal Aviation Administration (FAA) to carry out an Airport Environmental Mitigation Pilot Program. This program provides grants to sponsors of public-use airports. The pilot program is open to environmental mitigation projects that will measurably reduce or mitigate aviation impacts on noise, air quality, or water quality at the airport or within five miles of the airport. FAA may fund up to six projects at public-use airports. The purpose of this notice is to solicit pre-applications from eligible airports and consortia.

DATES: Pre-applications must be submitted by 5:00 p.m. EST on July 9, 2021.

ADDRESSES: You can obtain an electronic copy of this Policy and all other documents in this docket using the internet by:

(1) Searching the Federal eRulemaking portal (http://www.faa.gov/regulations/search);

(2) Visiting FAA's Regulations and Policies web page at (http://www.faa.gov/regulations_policies); or

(3) Accessing the Government Printing Office's web page at (http://www.gpoaccess.gov).

You can also obtain a copy by sending a request to FAA, Airport Planning and Environmental Division, 800 Independence Ave. SW, Washington, DC 20591, or by calling (202) 267-3263. Make sure to identify the docket number, notice number or amendment number of this proceeding.

FOR FURTHER INFORMATION CONTACT: Ms. Jaclyn M. Johnson, Environmental Protection Specialist, Federal Aviation Administration, 800 Independence Avenue, Washington, DC 20591; email jaclyn.johnson@faa.gov, phone 202-267-9596.

SUPPLEMENTARY INFORMATION: Each section of this notice contains information and instructions relevant to the pre-application process for these environmental mitigation pilot program grants. Applicants should read this notice in its entirety so that they have the information they need to submit eligible and competitive applications.

Table of Contents

A. Program Description

B. Federal Award Information

C. Eligibility Information

D. Pre-Application and Submission Information

E. Pre-Application Review Information

F. Grant Award Notice

A. Program Description

Section 190 of the FAA Reauthorization Act of 2018 (Pub. L. 115-254) creates a pilot program for environmental mitigation projects. The environmental mitigation projects should introduce new environmental mitigation techniques or technologies that have been proven in laboratory demonstrations. These projects should propose methods for efficient adaptation or integration of new concepts into airport operations. In addition, these projects must measurably reduce or mitigate aviation impacts on noise, air quality, or water quality at the airport or within five miles of the airport, and demonstrate whether new techniques or new technologies are practical to implement at or near public-use airports.

FAA may establish and publish information identifying best practices for reducing or mitigating aviation impacts on noise, air quality, and water quality at airports or in the vicinity of airports based on the projects carried out under the program. The program shall terminate five years after FAA makes the first grant under the program.

B. Federal Award Information

Per Section 190(a), FAA may fund up to six projects at public use airports. Per Section 190(k), additional projects may be carried out at a site previously, but not currently, managed by the Department of Defense (DOD) if the DOD provides funds to the FAA for funding such projects.

FAA may make grants from the Airport Improvement Program's noise and environmental set-aside (49 U.S.C. 47117(e)(1)(A)). Each project is limited to not more than $2,500,000 in federal funding. The federal share of the cost of the project carried out under the program is 50 percent, and requires 50 percent in airport matching funds.

C. Eligibility Information

The law specifies that projects must be carried out by an eligible consortium consisting of two or more of the following entities:

• Businesses incorporated in the U.S.

• Public or private educational or research organizations located in the U.S.

• Entities of state or local governments in the U.S.

• Federal laboratories.

D. Pre-Application and Submission Information

Airport Sponsors should submit a pre-application to their local FAA Airports District Office that includes a project title and location, and identifies the entities that will carry out the project. The pre-application should include a description of the roles and responsibilities of each entity and must be signed by each entity. The pre-application should include a project description that discusses the project and anticipated benefits, the roles and responsibilities of each entity involved in the program, and how the project meets the program's goals of funding mitigation that is not widely available at airports; and could introduce a novel, applicable mitigation opportunity for airport development operations.

The pre-application should also describe how environmental benefits will be measured and include a draft scope of work that describes how the entity will implement the environmental mitigation project. In addition, the pre-application should include a schedule for completion of the project within 24 months of grant award and feature quarterly reporting to the airport sponsor's Regional or Airport District Office. Last, the pre-application should include a preliminary SF-424, with estimated project cost broken out by federal and local share.

In short, the pre-application should include the information necessary for FAA to determine that the project satisfies project requirements as described in Section A and C and to assess the selection criteria specified in Section E. The pre-application should be prepared with standard formatting preferences including a single-spaced document, using standard 12-point font such as Times New Roman, with 1-inch margins. The pre-application may not exceed 25 pages in length, including any attachments or appendices. If the pre-application includes information the applicant considers to be trade secret or confidential commercial or financial information, the applicant should note on the front cover that the submission “Contains Confidential Business Information” and mark each affected page. DOT protects such information from disclosure to the extent allowed under applicable law.

Pre-applications should be submitted by the airport sponsor, not the consortium, to the sponsor's local Regional or Airports District Office. A listing of FAA Regional Airports Divisions and Airports District Offices by State is located at https://www.faa.gov/about/office_org/headquarters_offices/arp/regional_offices/. Any questions on the program and pre-application materials should also be directed to the Regional or Airports District Office.

E. Pre-Application Review Information

FAA will give priority consideration to projects that will achieve the greatest reductions in aircraft noise, airport emissions, or airport water quality impacts either on an absolute basis or on a per dollar of funds expended basis, and will be implemented by an eligible consortium.

F. Grant Award Notice

Following the evaluation outlined in Section E, FAA will notify candidates about grant awards. If selected through the pre-application process, the local FAA Regional or Airports District Office will commence a conventional grant process (including standard application materials).

This policy does not have the force and effect of law and is not meant to bind the public in any way, it is intended only to provide clarity to the public regarding existing requirements under the law or agency policies.

Issued in Washington, DC.
Robert John Craven,
Director, Airport Planning and Programming.

[FR Doc. 2021-09856 Filed 5-7-21; 8:45 am]

BILLING CODE 4910-13-P